DEPARTMENT OF HEALTH AND HUMAN SERVICES

Administration for Children and Families

Grant to Welfare Information Network

AGENCY: Office of Family Assistance, ACF, DHHS.

ACTION: Grant award announcement.

SUMMARY: Notice is hereby given that an award is being made to the Welfare Information Network of Washington, DC in the amount of $75,000 for information dissemination activities on welfare reform. After the appropriate reviews, it has been determined that this proposal qualifies as a sole source award. Over the past four years, the Welfare Information Network (WIN) has been one of the leading nonprofit organizations in disseminating information and materials on welfare reform. The WIN network is a very unique organization in the welfare reform community. It has created a database on the cutting edge of Welfare to Work promising strategies through a synthesis of the latest research, site visits, and surveys of practitioners and service providers. The WIN organization has been an extremely valuable partner with the Office of Family Assistance in several clearinghouse and networking activities. This partnership with the WIN Organization has proven to be invaluable to States and communities in obtaining the information, policy analysis, and technical assistance they need to develop and implement changes that have helped to reduce dependency and promote the well-being of children and families. The period of this funding will extend through May 31, 2001.

FOR FURTHER INFORMATION CONTACT: Paul Maiers, Office of Family Assistance, Administration for Children and Families, 370 L'Enfant Promenade, SW, Washington, DC 20447, Telephone: 202-401-5438.

Dated: June 20, 2000.
Alvin C. Collins,
Director, Office of Family Assistance.

[FR Doc. 00-16056 Filed 6-23-00; 8:45 am]

BILLING CODE 4184-01-M